DEPARTMENT OF COMMERCE

Economic Development Administration

Notice of Petitions by Firms for Determination of Eligibility To Apply for Trade Adjustment Assistance

AGENCY: Economic Development Administration, Department of Commerce.

ACTION: Notice and Opportunity for Public Comment.

Pursuant to Section 251 of the Trade Act of 1974 (19 U.S.C. 2341 et seq.), the Economic Development Administration (EDA) has received petitions for certification of eligibility to apply for Trade Adjustment Assistance from the firms listed below. EDA has initiated separate investigations to determine whether increased imports into the United States of articles like or directly competitive with those produced by each firm contributed importantly to the total or partial separation of the firm's workers, or threat thereof, and to a decrease in sales or production of each petitioning firm.

List of Petitions Received by EDA for Certification of Eligibility To Apply for Trade Adjustment 6/7/2010 Through 6/24/2010
Firm | Address | Date accepted for filing | Products
Flinchbaugh Engineering, Inc | 4387 Run Way, York, PA 17406 | 6/7/2010 | Precision manufacturing of CNC machined metal parts.
S&H Cabinets & Manufacturing, Inc | 10860 Mulberry Avenue, Fontana, CA 92337-7027 | 6/7/2010 | Manufactures wood and plastic laminate cabinets, countertops, reception desks, partitions, shelving, and millwork on a production and custom basis for commercial, industrial and other businesses.
American Products, Inc | 45 Leigh Drive, York, PA 17406 | 6/8/2010 | American Products is a manufacturer of electronic controls.
First Priority, Inc | 1590 Todd Farm Drive, Elgin, IL 60123 | 6/8/2010 | The company is a manufacturer of pharmaceuticals for the veterinary industry.
OK Fabricators, LLC | 8630 S. Regency Drive, Tulsa, OK 74131 | 6/9/2010 | Heavy equipment parts fabrication, to include but not limited to HVAC, boilers, steam vents.
Pace Machine &Tool, Inc | 1425 Commerce Lane, Jupiter, FL 33458 | 6/9/2010 | The firm produces custom-made machine parts; primary manufacturing material is metal.
Rio Rico Farms, Inc | P.O. Box 100, Progreso, TX 78579 | 6/9/2010 | Grower and processor of edible roots for human consumption.
Ted Hosmer Enterprises, Inc | 1249 Lehigh Station Rd., Henrietta, NY 14467 | 6/9/2010 | The firm offers design/build for landscape and nursery supplies and plant material consisting of shrubs, trees, perennials, annuals, and a wide variety of mulches. In the winter months, the firm provides snow removal services.
Windham Castings, Inc | 151 Jimmy Carter, Plains, GA 31780 | 6/9/2010 | The firm produces cast aluminum furniture; primary manufacturing material is aluminum.
Fulford Manufacturing Company, Inc | 65 Tripps Lane, East, RI 02915 | 6/10/2010 | Fulford Manufacturing company manufactures hardware, plumbing fixtures and fittings, metal stampings, costume jewelry using materials that include stainless steel, brass and aluminum.
Trelleborg Sealing Solutions US, Inc | 2531 Bremer Rd, Fort Wayne, IN | 6/10/2010 | The company manufactures precision plastic bearings and sealing systems.
The Marwin Company, Inc | 1703 Atlas Road P.O., Columbia, SC 29290 | 6/11/2010 | The firm produces attic stairways, bi-fold doors, & pocket door frames; primary manufacturing material is wood.
Elmet Technologies, Inc | 1560 Lisbon Street, Lewiston, ME 04240 | 6/14/2010 | Elmet is global supplier of high performance materials including molybdenum, refractory metals, wire products and lighting products.
IQE, Inc | 119 Technology Drive, Bethlehem, PA 18015 | 6/14/2010 | IQE manufactures epitaxial wafers used in cell phones, cell phone towers, advanced military communications, defense radar and guidance systems, sensors and optoelectronics.
Oklahoma Safety Equipment Co., Inc | 1710 W. Tacoma, Broken Arrow, OK 74012 | 6/14/2010 | Pressure measuring instruments.
Oliver Manufacturing Company, Inc | 17777 U.S. Highway 50, Rocky Ford, CO 81067 | 6/14/2010 | Manufacturer of farm machinery and equipment, specializing in cleaning machines for fruit, grain or vegetables.
Dry Corp, LLC | 349 Military Cutoff Road, Wilmington, NC 28405 | 6/15/2010 | The firm produces waterproof cast, bandage, prosthetic and ostomy protectors. The primary manufacturing materials include natural rubber latex, neoprene, PVC vinyl, and injection molded plastic.
Lorbern Manufacturing, Inc | 708 Morse Avenue, Schaumburg, IL 60193 | 6/15/2010 | The company is a manufacturer of machine parts and tooling for the fastener industry. The firm manufactures machined metal parts and tooling.
MicroMax, Inc | 5840 N. Canton Center Rd., Canton, MI 48187 | 6/15/2010 | Engineering design and testing services.
Pollmann North America, Inc | 950 Chicago Tube Drive, Romeoville, IL 60446 | 6/15/2010 | The company is a manufacturer of electro-mechanical and mechanical subassemblies for the automotive, medical, appliance, and consumer electronics industries.
DJ Acquisition Management Corp. d/b/a Weco | 6364 Dean Parkway, Ontario, NY 14519 | 6/18/2010 | The Company is engaged in contract manufacturing for original equipment manufacturers (OEMs). This includes metal fabrication, machining, finishing and assembly to the customer's product specifications.
Fletcher Rugs, Inc d/b/a Mountain Rug Mills | 609 North King Street, Hendersonville, NC 28792 | 6/22/2010 | The firm produces area rugs and carpets. The primary manufacturing material is wool and cotton.
AG Devices of Colorado, Inc | 9595 Highway 65, Austin, CO 81410 | 6/24/2010 | AG Devices produces custom electrical cables for a range of applications.
Eldre Corporation | 1500 Jefferson Road, Rochester, NY 14623 | 6/24/2010 | Manufacturer of laminated Bus Bars or current carrying wiring devices.
Tanury Industries | 1500 Jefferson Road, Lincoln, RI 02865 | 6/24/2010 | The firm provides metal finishing services to a wide group of decorative products.

Any party having a substantial interest in these proceedings may request a public hearing on the matter. A written request for a hearing must be submitted to the Trade Adjustment Assistance for Firms Division, Room 7106, Economic Development Administration, U.S. Department of Commerce, Washington, DC 20230, no later than ten (10) calendar days following publication of this notice.

Please follow the procedures set forth in Section 315.9 of EDA's final rule (71 FR 56704) for procedures for requesting a public hearing. The Catalog of Federal Domestic Assistance official program number and title of the program under which these petitions are submitted is 11.313, Trade Adjustment Assistance.

Dated: June 25, 2010.
Miriam J. Kearse,
Eligibility Certifier.

[FR Doc. 2010-16449 Filed 7-6-10; 8:45 am]

BILLING CODE 3510-24-P